DEPARTMENT OF COMMERCE

Patent and Trademark Office

Submission for OMB Review; Comment Request; “Madrid Protocol”

The United States Patent and Trademark Office (USPTO) will submit to the Office of Management and Budget (OMB) for clearance the following proposal for collection of information under the provisions of the Paperwork Reduction Act (44 U.S.C. Chapter 35).

Agency: United States Patent and Trademark Office, Commerce.

Title: Madrid Protocol.

OMB Control Number: 0651-0051.

Form Number(s):

• PTO-2131

• PTO-2132

• PTO-2133

• PTO-1663

• PTO-1683

• TEAS Global Form

Type of Request: Regular.

Number of Respondents: 16,557.

Average Hours per Response: The responses in this collection should take an average of 17.8 minutes to complete, with response times ranging from 17 minutes to 75 minutes depending upon the instrument used.

Burden Hours: 4,918.45 hours annually.

Cost Burden: $2,175,480.36.

Needs and Uses: The Protocol Relating to the Madrid Agreement Concerning the International Registration of Marks (“Madrid Protocol”) is an international treaty that allows a trademark owner to seek registration in any of the participating countries by filing a single international application. An international application submitted through the USPTO must be based on an active U.S. application or registration and must be filed by the owner of the application or registration. The public uses this collection to submit applications for international registration and related requests to the USPTO under the Madrid Protocol.

Affected Public: Individuals or households; businesses or other for-profits; and not-for-profit institutions.

Frequency: On occasion.

Respondent's Obligation: Required to obtain or retain benefits.

OMB Desk Officer: Nicholas A. Fraser, email: Nicholas_A._Fraser@omb.eop.gov.

Once submitted, the request will be publicly available in electronic format through reginfo.gov. Follow the instructions to view Department of Commerce collections currently under review by OMB.

Further information may be requested by:

• Email: InformationCollection@uspto.gov. Include “0651-0051 copy request” in the subject line of the message.

• Mail: Marcie Lovett, Records Management Division Director, Office of the Chief Information Officer, United States Patent and Trademark Office, P.O. Box 1450, Alexandria, VA 22313-1450.

Written comments and recommendations for the proposed information collection should be sent on or before December 21, 2015 to Nicholas A. Fraser, OMB Desk Officer, via email to Nicholas_A._Fraser@omb.eop.gov, or by fax to 202-395-5167, marked to the attention of Nicholas A. Fraser.

Dated: November 13, 2015.
Rhonda Foltz,
Director, Office of Information Management Services, USPTO, Office of the Chief Information Officer.

[FR Doc. 2015-29525 Filed 11-18-15; 8:45 am]

BILLING CODE 3510-16-P